DEPARTMENT OF TRANSPORTATION

Federal Aviation Administration

Aviation Rulemaking Advisory Committee and Executive Committee; Meetings

AGENCY: Federal Aviation Administration (FAA), DOT,

ACTION: Notice of meeting.

SUMMARY: The FAA is issuing this notice to advise the public of a meeting of the full Aviation Rulemaking Advisory Committee (ARAC) and Executive Committee of the Federal Aviation Administration's Aviation Rulemaking Advisory Committee. It has been nearly ten years since the last full committee meeting and the membership has expanded considerably since that time. The purpose of the meeting is to bring the full Committee together to discuss operational procedures, the future vision for ARAC, and committee accomplishments.

DATES: The full ARAC meeting will be held February 7, 2001, from 10 a.m.-12 Noon and the Executive Committee will begin at 1 p.m.

ADDRESSES: The meeting will be held at the Hyatt Regency Crystal City, 2799 Jefferson Davis Highway, Arlington, VA 22202.

FOR FURTHER INFORMATION CONTACT: Gerri Robinson, Federal Aviation Administration, 800 Independence Avenue, SW., Washington, DC 20591, telephone (202) 267-9678; fax (202) 267-5075; e-mail Gerri.Robinson@faa.gov.

SUPPLEMENTARY INFORMATION: Pursuant to section 10(a)(2) of the Federal Advisory Committee Act (Pub. L. 92-463; 5 U.S.C. App. II), notice is hereby given of a meeting of the full Aviation Rulemaking Advisory Committee and the Aviation Rulemaking Advisory Committee Executive Committee to be held on February 7, 2001, at Hyatt Regency Crystal City. The agenda will include:

Full ARAC Committee Meeting, 10 a.m.-12 Noon:

• Welcome and introductions—Anthony Fazio, Executive Director, and Albert Prest, Chair.

• Remarks—Thomas E. McSweeney, Association Administrator for Regulation and Certification, Federal Aviation Administration.

• Federal Advisory Committee Act (FACA) requirements.

• Roles/Responsibilities.

• Public accessibility to ARAC information.

• Scheduled comments and statements to the committee.

• Adjournment.

Executive Committee Meeting, 1:00 p.m.

• Review and approval of previous meeting minutes.

• Status Report Fuel Tank Inerting working group.

• Status Report from Assistant Chairs.

• Remarks from other EXCOM members.

• Proposed meetings dates for CY 2001: May 9, August 8, and Nov. 7.

Attendance is open to the interested public but will be limited to the space available. Please contact the person listed under the heading FOR FURTHER INFORMATION CONTACT by January 31, 2001, if you plan to attend either of these meetings, plan to present a verbal statement, or you are in need of assistance or require a reasonable accommodation for this meeting. Requests to present a verbal statement should include a written summary of the remarks. Please focus your remarks and/or statements on the operations of ARAC, specific activities, projects or goals of the advisory committee, and benefits to the aviation public.

Individuals making verbal presentations or providing written statements at either meeting should bring at least 25 copies of the written material to the meeting. Copies of the materials may be provided to the audience at the discretion of the submitter.

The Committee will try to accommodate all speakers. Each speaker will be limited to no more than a 5-minute presentation. If available time does not permit this, speakers generally will be scheduled on a first-come-first-served basis. However, ARAC leadership reserves the right to exclude some speakers, if necessary, to present a balance of viewpoints and issues.

Issued in Washington, DC, on January 11, 2001.
Anthony F. Fazio,
Executive Director, Aviation Rulemaking Advisory Committee.

[FR Doc. 01-1506 Filed 1-12-01; 3:37 pm]

BILLING CODE 4910-13-M